CONSUMER PRODUCT SAFETY COMMISSION

Sunshine Act Meeting Notice

TIME AND DATE: Wednesday, October 3, 2012, 10 a.m.-12 p.m.

PLACE: Hearing Room 420, Bethesda Towers, 4330 East-West Highway, Bethesda, Maryland.

STATUS: Commission Meeting—Open to the Public.

Matters To Be Considered

Decisional Matters: 1. Bassinets and Cradles—Notice of Proposed Rulemaking. 2. Consideration of Opportunities to Reduce Third Party Testing Costs Consistent with Assuring the Compliance of Children's Products.

Briefing Matter: 1. Swings—Final Rule.

A live webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East-West Highway, Bethesda, MD 20814, (301) 504-7923.

Dated: September 25, 2012.
Todd A. Stevenson,
Secretary.

[FR Doc. 2012-23966 Filed 9-25-12; 4:15 pm]

BILLING CODE 6355-01-P